ENVIRONMENTAL PROTECTION AGENCY

[FRL-8014-2]

State Innovation Grant Program, Notice of Availability of Solicitation for Proposals for 2006 Awards

AGENCY: Environmental Protection Agency (EPA).

ACTION: Notice.

SUMMARY: The U.S. Environmental Protection Agency, National Center for Environmental Innovation (NCEI) is giving notice of the availability of its solicitation for proposals for the 2006 grant program to support innovation by state environmental regulatory agencies—the “State Innovation Grant Program.”

The solicitation is available at the Agency's State Innovation Grant Web site: http://www.epa.gov/innovation/stategrants/solicitation2006.pdf, or may be requested from the Agency by e-mail, telephone, or by mail. Only the principal environmental regulatory agency within each State (generally, where delegated authorities for Federal environmental regulations exist) is eligible to receive these grants.

DATES: State environmental regulatory agencies will have until January 20, 2006 to respond with a pre-proposal, budget, and project summary. The environmental regulatory agencies from the fifty (50) States; Washington, DC, and four (4) territories were notified of the solicitation's availability by fax and e-mail transmittals on December 12, 2005.

ADDRESSES: Copies of the Solicitation can be downloaded from the Agency's Web site at: http://www.epa.gov/innovation/stategrants or may be requested by telephone (202-566-2186), or by e-mail (Innovation_State_Grants@epa.gov). You can request a solicitation application package be sent to you by fax or by mail by contacting NCEI as indicated below.

Applicants may apply by sending a hardcopy submission of their pre-proposal to EPA or by applying electronically either through www.grants.gov as explained in Section 4.4 of the solicitation, or directly by e-mail to: Innovation_State_Grants@epa.gov. Applicants must submit the information required below with their application package. Applicants may download individual grant application forms, or electronically request a paper application package and an accompanying computer CD of information related to applicants/grant recipients roles and responsibilities from EPA's Grants and Debarment Web site at (http://www.gov/ogd/grants/how_to_apply.htm). Proposals submitted in response to this solicitation, or questions concerning the solicitation should be sent to: State Innovation Grants Program, National Center for Environmental Innovation, Office of the Administrator, U.S. Environmental Protection Agency (MC 1807T), 1200 Pennsylvania Ave., NW., Washington, DC 20460. (202) 566-2186. (202) 566-2220 FAX. Innovation_State_Grants@epa.gov.

For courier delivery only: Sherri Walker, State Innovation Grants Program, U.S. EPA , EPA West Building, Room 4214D, 1301 Constitution Ave., NW., Washington, DC 20005.

Proposal responses or questions may also be sent by fax to (202-566-2220), addressed to the “State Innovation Grant Program,”or by e-mail to: Innovation_State_Grants@epa.gov. We encourage e-mail responses. If you have questions about responding to this notice, please contact EPA at this e-mail address or fax number, or you may call Sherri Walker at 202-566-2186. EPA will acknowledge all responses it receives to this notice.

SUPPLEMENTARY INFORMATION: The U.S. Environmental Protection Agency (EPA) is soliciting pre-proposals for an assistance agreement program (the “State Innovation Grant Program”) in an effort to support innovation by State environmental regulatory agencies. In April 2002, EPA issued its plan for future innovation efforts, published as Innovating for Better Environmental Result: A Strategy to Guide the Next Generation of Innovation at EPA (EPA 100-R-02-002; http://www.epa.gov/innovation/pdf/strategy.pdf). This assistance agreement program strengthens EPA's partnership with the States by assisting State Innovation that supports the Strategy. EPA would like to help States build on previous experience and undertake strategic innovation projects that promote larger-scale models for “next generation” environmental protection and promise better environmental results. EPA is interested in funding projects that: (1) Go beyond a single facility experiment to promote change that is “systems-oriented;” (2) provide better results from a program, process, or sector-wide innovation; and (3) promote integrated (cross-media) environmental management with high potential for transfer to other States.

“Innovation in permitting” is the theme for the 2006 solicitation. Under this theme, EPA is interested in pre-proposals that:

(a) Apply the Environmental Results Program model, an alternative to permitting scheme for small business sectors;

(b) Explore the relationship between Environmental Management Systems and permitting; or

(c) Seek to build State support for EPA's National Environmental Performance Track Program or similar State performance-based environmental leadership programs.

EPA interprets “innovation in permitting” broadly to include permitting programs, pesticide licensing programs, and other alternatives or supplements to permitting programs. EPA is interested in creative approaches that both (1) achieve mandatory Federal and State standards and (2) encourage performance and address environmental issues above and beyond minimum requirements.

This solicitation begins the fourth State Innovation Grant competition. Of the 22 projects that have been awarded in the prior rounds (including those with pending awards) eleven (11) are for development of Environmental Results Programs, seven (7) relate to Environmental Management Systems and permitting, two (2) are to enhance Performance-Based Environmental Leadership programs, two (2) are for Watershed-based permitting, and one (1) is Information Technology for the application of Geographic Information Systems (GIS) to a permitting process. For information on the prior solicitations and awards, please see highlights of previous awards in Attachment 3 of the solicitation, or see the EPA State Innovation Grants Web site at http://www.epa.gov/innovation/stategrants.

Dated: December 8, 2005.
Elizabeth Shaw,
Director, Office of Environmental Policy Innovation.

[FR Doc. E5-7775 Filed 12-22-05; 8:45 am]

BILLING CODE 6560-50-P